DEPARTMENT OF EDUCATION

Applications for New Awards; Expanding Opportunity Through Quality Charter Schools Program (CSP)—Grants to Charter School Developers for the Opening of New Charter Schools and for the Replication and Expansion of High-Quality Charter Schools (Developer Grants); Corrections

AGENCY: Office of Elementary and Secondary Education, Department of Education.

ACTION: Notice; corrections.

SUMMARY: On July 6, 2022, the Department of Education (Department) published in the Federal Register a notice inviting applications (NIA) for the fiscal year (FY) 2022 Developer Grants competition, Assistance Listing Numbers (ALNs) 84.282B and 84.282E. This notice corrects two errors in that NIA. All other information in the NIA remains the same. To be eligible to apply for a Developer Grant, a charter school may not be located in a State in which a State entity currently has an approved CSP State Entity grant (ALN 84.282A) under section 4303 of the Elementary and Secondary Act of 1965 (ESEA). Footnote 3 of the NIA provides a list of States with active SE grants. In this list Mississippi should not have been included and South Carolina should have been included.

DATES: These corrections are applicable July 27, 2022.

FOR FURTHER INFORMATION CONTACT: Porscheoy Brice, U.S. Department of Education, 400 Maryland Avenue SW, Room 3E209, Washington, DC 20202-5970. Telephone: (202) 987-1769. Email: DeveloperCompetition2022@ed.gov.

If you use a telecommunications device for the deaf (TDD) or a text telephone (TTY), call the Federal Relay Service (FRS), toll free, at 1-800-877-8339.

SUPPLEMENTARY INFORMATION: We are correcting the July 6, 2022, NIA to remove Mississippi from and add South Carolina to the list of States from which we will not consider applications under either ALNs 84.282B or 84.282E because these States have a State entity that currently has an approved CSP State Entity grant application under section 4303 of the ESEA and that is actively running subgrant competitions.

Corrections

In FR Doc. No. 2022-14448, in the Federal Register published on July 6, 2022 (87 FR 40218), we make the following corrections:

On Page 40225, in Footnote 3, in the second column, under the heading III. Eligibility Information, revise the footnote to read as follows:

“States in which a State entity currently has an approved CSP State Entity grant application under section 4303 of the ESEA that is actively running subgrant competitions are Alabama, Arizona, Arkansas, California, Colorado, Delaware, District of Columbia, Florida, Idaho, Indiana, Maryland, Michigan, Minnesota, Nevada, New Hampshire, New Mexico, New Jersey, New York, North Carolina, Oklahoma, Pennsylvania, Rhode Island, South Carolina, Texas, Washington, and Wisconsin. We will not consider applications from applicants in these States under either Assistance Listing Numbers 84.282B or 84.282E.”

Program Authority: Title IV, part C of the ESEA, as amended.

Accessible Format: On request to the contact person listed under FOR FURTHER INFORMATION CONTACT, individuals with disabilities can obtain this notice, the NIA, and a copy of the application in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Ruth E. Ryder,
Deputy Assistant Secretary for Policy and Programs, Office of Elementary and Secondary Education.

[FR Doc. 2022-16026 Filed 7-26-22; 8:45 am]

BILLING CODE 4000-01-P